ENVIRONMENTAL PROTECTION AGENCY

40 CFR Parts 52 and 81

[EPA-R09-OAR-2014-0636; FRL-9944-93-Region 9]

Adequacy Status of Motor Vehicle Emissions Budgets in Submitted PM2.5 Moderate Area Plan for San Joaquin Valley; California

AGENCY: Environmental Protection Agency (EPA).

ACTION: Notice of adequacy.

SUMMARY: The Environmental Protection Agency (EPA) is notifying the public that the Agency has found that the motor vehicle emissions budgets (MVEBs or “budgets”) for the years 2014 and 2017 in the San Joaquin Valley Moderate Area Plan, as revised in a December 29, 2014 submittal, for the 2006 24-hour fine particulate (PM2.5) national ambient air quality standards (NAAQS) are adequate for transportation conformity purposes. The Moderate Area Plan was submitted to the EPA on March 4, 2013 by the California Air Resources Board (CARB) as a revision to the California State Implementation Plan (SIP) and includes a demonstration of reasonable further progress for the 2006 PM2.5 NAAQS. CARB submitted a Supplement to the Moderate Area Plan on November 6, 2014 (“2014 Supplement”) and a revision to the budgets on December 29, 2014. We refer to these submittals collectively as the “2012 PM2.5 Plan” or “Plan.” Upon the effective date of this notice of adequacy, the San Joaquin Valley metropolitan planning organizations (MPO) and the U.S. Department of Transportation (DOT) must use these budgets for future transportation conformity determinations.

DATES: This finding is effective May 2, 2016.

FOR FURTHER INFORMATION CONTACT: Wienke Tax, U.S. EPA, Region IX, Air Division AIR-2, 75 Hawthorne Street, San Francisco, CA 94105-3901; (415) 947-4192 or tax.wienke@epa.gov.

SUPPLEMENTARY INFORMATION: Throughout this document, whenever “we,” “us,” or “our” is used, we mean the EPA.

This action is simply an announcement of a finding that we have already made. EPA Region IX sent a letter to CARB on April 1, 2016 stating that the motor vehicle emissions budgets in the submitted 2012 PM2.5 Plan for the reasonable further progress (RFP) milestone years of 2014 and 2017 are adequate.

In response to an October 7, 2014 request by CARB for parallel processing of the revised budgets in the 2012 PM2.5 Plan,¹ we announced the availability of the revised budgets on the EPA's adequacy review Web page at http://www.epa.gov/otaq/stateresources/transconf/currsips.htm from October 23, 2014 to November 24, 2014. We received no comments on the budgets during this period.

¹ See letter dated October 7, 2014, from Richard Corey, Executive Officer, CARB, to Jared Blumenfeld, Regional Administrator, EPA Region 9.

On January 13, 2015, we proposed to approve these budgets as part of our proposed action on the 2012 PM2.5 Plan and 2014 Supplement.² We received two comments on the budgets.³ We respond to the first of these two comments below. The second comment concerns the transportation conformity interpollutant trading mechanism in the 2012 PM2.5 Plan that we proposed to approve for use in transportation conformity analyses. We will respond to this comment when we take final action on the interpollutant trading mechanism as part of our final action on the 2012 PM2.5 Plan and 2014 Supplement. The interpollutant trading mechanism cannot be used until it is approved as part of the SIP. Therefore, the appropriate venue for responding to the comment on the trading mechanism is the final rule on the 2012 PM2.5 Plan and 2014 Supplement.

² 80 FR 1816 at 1841 (January 13, 2015).

³ See letter dated February 27, 2015, from Paul Cort and Adenike Adeyeye, Earthjustice, to Wienke Tax, Air Planning Office, EPA Region 9.

Transportation conformity is required by Clean Air Act section 176(c). The EPA's conformity rule requires that transportation plans, transportation improvement programs, and projects conform to a SIP and establishes the criteria and procedures for determining whether or not they do. Conformity to a SIP means that transportation activities will not produce new air quality violations, worsen existing violations, or delay timely attainment of the NAAQS.

The criteria by which we determine whether a SIP's MVEBs are adequate for conformity purposes are outlined in 40 CFR 93.118(e)(4) which was promulgated in our August 15, 1997 final rule (62 FR 43780 at 43781-43783). We have further described our process for determining the adequacy of submitted SIP MVEBs in our July 1, 2004 final rule (69 FR 40004 at 40038), and we used the information in these resources in making our adequacy determination. Please note that an adequacy review is separate from the EPA's completeness review and should not be used to prejudge the EPA's ultimate action on the SIP. Even if we find a budget adequate, the SIP could later be disapproved.

Response to Comment

Comment: Earthjustice asserts that the EPA must disapprove the RFP demonstration in the 2012 PM2.5 Plan and 2014 Supplement because it does not adequately address ammonia emission reductions and, therefore, does not provide “such annual incremental reductions in emissions of the relevant air pollutant as are required . . . for the purpose of ensuring attainment . . . by the applicable date.” Earthjustice argues that, because the RFP demonstration is not approvable, the EPA cannot find that the motor vehicle emissions budgets in the 2012 PM2.5 Plan and 2014 Supplement are consistent with applicable requirements for reasonable further progress, as required by 40 CFR 98.118(e)(4)(iv).

Response: On January 13, 2015, the EPA proposed to approve several elements of the 2012 PM2.5 Plan and 2014 Supplement, which California submitted to address Clean Air Act requirements for the 2006 PM2.5 NAAQS in the San Joaquin Valley.⁴ As part of this action, the EPA proposed to approve the Plan's RFP demonstration for 2014 and 2017, based on a conclusion that the 2014 and 2017 emissions projections for direct PM2.5, nitrogen oxides (NOX), sulfur dioxide (SO2), and ammonia (NH3) reflect full implementation of the State's and District's Reasonably Available Control Measures/Reasonably Available Control Technology control strategy, which achieves substantial reductions in emissions of each of these pollutants over the period covered by the Plan. Id. at 1835-37. The EPA also proposed to approve the direct PM2.5 and NOX MVEBs for 2014 and 2017, based on a conclusion that these MVEBs are consistent with applicable requirements for reasonable further progress and the other adequacy requirements. Id. at 1838-41. Finally, in accordance with 40 CFR 93.102(b)(2)(v), the EPA proposed to find that on-road emissions of volatile organic compounds (VOC), SO2, and NH3 are not significant contributors to the PM2.5 nonattainment problem in the SJV area, and accordingly, that transportation conformity requirements do not apply for these pollutants in this area. Id. at 1840.

⁴ See 80 FR 1816 (January 13, 2015).

In PM2.5 nonattainment areas, the transportation conformity provisions of 40 CFR part 93, subpart A, apply with respect to emissions of VOC, SO2 and/or NH3 if the EPA Regional Administrator or the director of the state air agency has made a finding that on-road emissions of any of these precursors within the nonattainment area are a significant contributor to the PM2.5 nonattainment problem and has so notified the MPO and DOT, or if the applicable implementation plan (or implementation plan submission) establishes an approved (or adequate) budget for such emissions as part of the reasonable further progress, attainment or maintenance strategy. 40 CFR 93.102(b)(2)(v). With respect to VOC, SO2, and NH3, neither the EPA nor the State has made a finding that on-road emissions of any of these precursors are a significant contributor to the PM2.5 nonattainment problem in the SJV area, and neither the approved California SIP nor the submitted 2012 PM2.5 Plan and 2014 Supplement establish adequate MVEBs for such emissions as part of an RFP, attainment or maintenance strategy for the PM2.5 NAAQS. Accordingly, the transportation conformity provisions of 40 CFR part 93, subpart A, do not apply with respect to emissions of VOC, SO2 or NH3 for purposes of the 2006 PM2.5 NAAQS in the SJV.

The provisions of 40 CFR part 93, subpart A, apply with respect to emissions of NOX because neither the EPA nor the State has made a finding that on-road emissions of NOX within the SJV nonattainment are not a significant contributor to the PM2.5 nonattainment problem, and because the 2012 PM2.5 Plan and 2014 Supplement establish adequate budgets for such emissions as part of the Plan's RFP strategy. 40 CFR 93.102(b)(2)(iv). The provisions of 40 CFR part 93, subpart A, also apply with respect to emissions of direct PM2.5 because PM2.5 is a criteria pollutant identified in 40 CFR 93.102(b)(1).

In order to find an MVEB in a submitted control strategy implementation plan revision to be adequate for transportation conformity purposes, the EPA must find, among other things, that the motor vehicle emissions budget(s), when considered together with all other emission sources, is consistent with applicable requirements for reasonable further progress, attainment, or maintenance (whichever is relevant to the given plan). 40 CFR 93.118(e)(4)(iv). Because the provisions of 40 CFR part 93, subpart A, apply only with respect to emissions of NOX and direct PM2.5 for purposes of the 2006 PM2.5 NAAQS in the SJV area, we have evaluated the submitted NOX and direct PM2.5 MVEBs for consistency with our adequacy criteria in § 93.118(e)(4). The commenter's arguments about NH3 emissions are not germane to our evaluation of the MVEBs under these adequacy criteria.

As explained in our January 13, 2015 proposed rule, the 2014 and 2017 MVEBs for NOX and direct PM2.5 in the 2012 PM2.5 Plan and 2014 Supplement are consistent with the RFP demonstration with respect to these pollutants in the submitted plan. We find, therefore, that these MVEBs meet the requirement in 40 CFR 93.118(e)(4) for consistency with applicable requirements for RFP in the submitted plan. We note that our adequacy review is a cursory review of the SIP and MVEBs to ensure that the minimum adequacy criteria are met before a submitted budget is used in a conformity determination. This adequacy finding should not be used to prejudge the EPA's final rulemaking action on the SIP.

In summary, we are announcing our finding that the motor vehicle emissions budgets for the years 2014 and 2017 from the 2012 PM2.5 Plan are adequate for transportation conformity purposes. The finding is available at the EPA's conformity Web site: http://www.epa.gov/otaq/stateresources/transconf/adequacy.htm. The adequate MVEBs are provided in the following table:

Adequate MVEBs in the San Joaquin Valley for the 2006 24-Hour PM2.5 Standards
[Winter daily average in tons]
County | 2014: PM2.5 | 2014: NOX | 2017: PM2.5 | 2017: NOX
Fresno | 1.0 | 31.6 | 0.9 | 25.2
Kern (SJV) | 1.2 | 43.2 | 1.0 | 34.4
Kings | 0.2 | 8.8 | 0.2 | 7.2
Madera | 0.3 | 8.7 | 0.2 | 7.0
Merced | 0.5 | 17.2 | 0.4 | 13.7
San Joaquin | 0.7 | 20.0 | 0.6 | 15.9
Stanislaus | 0.5 | 15.1 | 0.5 | 12.0
Tulare | 0.5 | 14.3 | 0.4 | 10.7
Total * | 4.9 | 159.0 | 4.3 | 126.0
Source: Letter, Richard Corey, Executive Officer, CARB, to Jared Blumenfeld, Regional Administrator, EPA Region 9, dated December 29, 2014, and Staff Report, Appendix A, Table C-4.
* Totals reflect disaggregated emissions and may not add exactly as shown here due to rounding. Letter, Richard Corey, Executive Officer, CARB, to Jared Blumenfeld, Regional Administrator, EPA Region 9, dated December 29, 2014, Staff Report with Attachment, revised Table C-4, “Transportation Conformity Budgets” to 2012 PM2.5 Plan.

Authority: 42 U.S.C. 7401 et seq.

Dated: April 1, 2016.
Jared Blumenfeld,
Regional Administrator, Region IX.

[FR Doc. 2016-08510 Filed 4-14-16; 8:45 am]

BILLING CODE 6560-50-P